DEPARTMENT OF AGRICULTURE

Office of Inspector General

Succession, Delegations of Authority, and Signature Authorities

AGENCY: Office of Inspector General (OIG), USDA.

ACTION: Notice.

SUMMARY: On June 24, 2020, pursuant to the Federal Vacancies Reform Act of 1998 and the Inspector General Act of 1978, as amended, U.S. Department of Agriculture (USDA) Inspector General (IG) Phyllis K. Fong issued C-20-001-1313, Revision of Succession Order and Delegation of Authority. The bulletin revised the succession order and delegation authorities described in IG-1313, Change 8, Succession, Delegations of Authority, and Signature Authorities, which provides guidance on the transfer of functions and duties of the IG, as well as other OIG central management functions, regardless of what events necessitate such transfer. This publication supersedes the USDA OIG's prior notice of succession order.

DATES: The revised bulletin referenced in this notice was issued on June 24, 2020.

FOR FURTHER INFORMATION CONTACT: Christy A. Slamowitz, Counsel to the Inspector General, U.S. Department of Agriculture, 1400 Independence Avenue SW, Room 441-E, Washington, DC 20250-2308, Telephone: (202) 720-9110.

SUPPLEMENTARY INFORMATION: USDA OIG is issuing this notice to publish an updated line of succession and delegations of authority within USDA OIG. This publication supersedes the prior notice of succession order for USDA OIG published at 81 FR 87531 (December 5, 2016). Accordingly, pursuant to the Federal Vacancies Reform Act of 1998 (5 U.S.C. 3345-3349d) and the Inspector General Act of 1978, as amended (5 U.S.C. app. 3), the IG has designated the detailed sequence of succession as follows:

I. During any period in which the USDA IG, dies, resigns, or is otherwise unable to perform the functions and duties of the office, and unless the President shall designate another officer to perform the functions and duties of the position, the Deputy IG, as the designated first assistant to the IG, shall temporarily perform the IG's functions and duties in an acting capacity, pursuant to and subject to the Federal Vacancies Reform Act (5 U.S.C. 3345-3349d). However, the Deputy IG does not become the acting IG if, during the 365-day period preceding the IG's death, resignation, or the beginning of the period in which the IG is unable to serve, the Deputy IG served as Deputy IG for less than 90 days and the President has nominated that Deputy IG as the new IG. In the absence of the IG and Deputy IG, the officials designated below, in the order listed, shall become the acting Deputy IG and so shall temporarily perform the functions and duties of the IG. This order may be changed by a delegation in writing from the IG, or by the Deputy IG while acting in the absence of the IG:

1. Assistant IG for Audit (AIG/A);

2. Assistant IG for Investigations (AIG/I);

3. Assistant IG for Analytics and Innovation (AIG/AI);

4. Assistant IG for Management (AIG/M);

5. Counsel to the IG;

6. Deputy Assistant IG for Audit (DAIG/A), by seniority;

7. Deputy Assistant IG for Investigations (DAIG/I);

8. Deputy Assistant IG for Analytics and Innovation (DAIG/AI); The following officials for the listed locations in the following order:

9. Audit Directors, by seniority, then Investigations Director, Technical Crimes Division—Kansas City, Missouri;

10. Special Agent-in-Charge (SAC)—Temple, Texas;

11. Audit Director—Beltsville, Maryland;

12. SAC—New York, New York;

13. Audit Director, then SAC—Oakland, California;

14. Audit Director, then SAC—Atlanta, Georgia;

15. Audit Director, then SAC—Chicago, Illinois;

16. Director, Office of Compliance and Integrity;

17. Director, Office of Diversity and Conflict Resolution.

II. For purposes of this order of succession, a designated official is a person holding a permanent appointment to the position. Persons filling positions in an acting capacity do not substitute for officials holding a permanent appointment to a position. If a position is vacant or an official occupying the position on a permanent basis is absent or unavailable, authority passes to the next available official occupying a position in the order of succession.

III. This delegation is not in derogation of any authority residing in the above officials relating to the operation of their respective programs, nor does it affect the validity of any delegations currently in force and effect and not specifically cited as revoked or revised herein.

IV. The authorities delegated herein may not be re-delegated.

Authority: 5 U.S.C. 3345-3349d; 5 U.S.C. app. 3.

Dated: September 11, 2020.
Phyllis K. Fong,
Inspector General.

[FR Doc. 2020-20522 Filed 9-17-20; 8:45 am]

BILLING CODE 3410-23-P